DEPARTMENT OF ENERGY

Federal Energy Regulatory Commission

Combined Notice of Filings

Take notice that the Commission has received the following Natural Gas Pipeline Rate and Refund Report filings:

Filings Instituting Proceedings

Docket Numbers: PR26-29-000.

Applicants: Columbia Gas of Kentucky, Inc.

Description: 284.123 Rate Filing: Revised Statement of Operating Conditions 1-29-2026 to be effective 12/31/2025.

Filed Date: 1/29/26.

Accession Number: 20260129-5145.

Comment Date: 5 p.m. ET 2/19/26.

Docket Numbers: PR26-30-000.

Applicants: Columbia Gas of Pennsylvania, Inc.

Description: 284.123 Rate Filing: Revised Statement of Operating Conditions per PAPUC12-9-2025 Order to be effective 1/1/2026.

Filed Date: 1/29/26.

Accession Number: 20260129-5163.

Comment Date: 5 p.m. ET 2/19/26.

Docket Numbers: PR26-31-000.

Applicants: Wisconsin Power and Light Company.

Description: 284.123(g) Rate Filing: WPL Statement of Operating Conditions Update 2026 to be effective 2/1/2026.

Filed Date: 1/29/26.

Accession Number: 20260129-5186.

Comment Date: 5 p.m. ET 2/19/26.

284.123(g) Protest: 5 p.m. ET 3/30/26.

Docket Numbers: PR26-32-000.

Applicants: Southern California Gas Company.

Description: 284.123 Rate Filing: Offshore Delivery Service Rate Revision January 2026 to be effective 1/1/2026.

Filed Date: 1/30/26.

Accession Number: 20260130-5011.

Comment Date: 5 p.m. ET 2/20/26.

Docket Numbers: RP26-428-000.

Applicants: Discovery Gas Transmission LLC.

Description: 4(d) Rate Filing: Business Process and Gas Measurement Updates to be effective 3/1/2026.

Filed Date: 1/29/26.

Accession Number: 20260129-5393.

Comment Date: 5 p.m. ET 2/10/26.

Docket Numbers: RP26-429-000.

Applicants: Wyoming Interstate Company, L.L.C.

Description: 4(d) Rate Filing: Fuel_LU Quarterly Update Filing Eff March 2026 to be effective 3/1/2026.

Filed Date: 1/29/26.

Accession Number: 20260129-5395.

Comment Date: 5 p.m. ET 2/10/26.

Docket Numbers: RP26-430-000.

Applicants: Sabine Pipe Line LLC.

Description: 4(d) Rate Filing: Updates to Pro Forma Agreements to be effective 3/1/2026.

Filed Date: 1/29/26.

Accession Number: 20260129-5469.

Comment Date: 5 p.m. ET 2/10/26.

Docket Numbers: RP26-431-000.

Applicants: Alliance Pipeline L.P.

Description: 4(d) Rate Filing: PAL Negotiated Rate Agreement 2026-01-29 to be effective 1/29/2026.

Filed Date: 1/29/26.

Accession Number: 20260129-5484.

Comment Date: 5 p.m. ET 2/10/26.

Docket Numbers: RP26-432-000.

Applicants: El Paso Natural Gas Company, L.L.C.

Description: 4(d) Rate Filing: Negotiated Rate Agreement Update (EOG Feb 25-Apr 2026) to be effective 2/1/2026.

Filed Date: 1/29/26.

Accession Number: 20260129-5493.

Comment Date: 5 p.m. ET 2/10/26.

Docket Numbers: RP26-433-000.

Applicants: El Paso Natural Gas Company, L.L.C.

Description: 4(d) Rate Filing: Negotiated Rate Agreement Update (SoCal Feb—Apr 2026) to be effective 2/1/2026.

Filed Date: 1/30/26.

Accession Number: 20260130-5009.

Comment Date: 5 p.m. ET 2/11/26.

Docket Numbers: RP26-434-000.

Applicants: Iroquois Gas Transmission System, L.P.

Description: 4(d) Rate Filing: 1.30.26 Negotiated Rates—Vitol Inc. R-7495-29 to be effective 2/1/2026.

Filed Date: 1/30/26.

Accession Number: 20260130-5072.

Comment Date: 5 p.m. ET 2/11/26.

Docket Numbers: RP26-435-000.

Applicants: Alliance Pipeline L.P.

Description: 4(d) Rate Filing: Negotiated Rates—Releases 2026-02-01 and Housekeeping to be effective 2/1/2026.

Filed Date: 1/30/26.

Accession Number: 20260130-5074.

Comment Date: 5 p.m. ET 2/11/26.

Docket Numbers: RP26-436-000.

Applicants: Iroquois Gas Transmission System, L.P.

Description: 4(d) Rate Filing: 1.30.26 Negotiated Rates—Vitol Inc. R-7495-30 to be effective 2/1/2026.

Filed Date: 1/30/26.

Accession Number: 20260130-5081.

Comment Date: 5 p.m. ET 2/11/26.

Docket Numbers: RP26-437-000.

Applicants: Southern Natural Gas Company, L.L.C.

Description: 4(d) Rate Filing: SNG NRA Permanent Release Filing—January 2026 to be effective 2/1/2026.

Filed Date: 1/30/26.

Accession Number: 20260130-5082.

Comment Date: 5 p.m. ET 2/11/26.

Docket Numbers: RP26-438-000.

Applicants: Equitrans, L.P.

Description: 4(d) Rate Filing: Negotiated Rate Agreement—2/1/2026 to be effective 2/1/2026.

Filed Date: 1/30/26.

Accession Number: 20260130-5096.

Comment Date: 5 p.m. ET 2/11/26.

Docket Numbers: RP26-439-000.

Applicants: National Fuel Gas Supply Corporation.

Description: 4(d) Rate Filing: Housekeeping 2026 to be effective 3/2/2026.

Filed Date: 1/30/26.

Accession Number: 20260130-5125.

Comment Date: 5 p.m. ET 2/11/26.

Docket Numbers: RP26-440-000.

Applicants: Dauphin Island Gathering Partners.

Description: Compliance filing: 2024 and 2025 Annual Cashout Report to be effective N/A.

Filed Date: 1/30/26.

Accession Number: 20260130-5158.

Comment Date: 5 p.m. ET 2/11/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP11-1711-000.

Applicants: Texas Gas Transmission, LLC.

Description: Refund Report: 2025 Cash Out Filing to be effective N/A.

Filed Date: 1/29/26.

Accession Number: 20260129-5468.

Comment Date: 5 p.m. ET 2/10/26.

Docket Numbers: RP24-1035-005.

Applicants: Transcontinental Gas Pipe Line Company, LLC.

Description: Compliance filing: RP24-1035 Stipulation and Agreement Tariff Record Filing to be effective 3/1/2025.

Filed Date: 1/30/26.

Accession Number: 20260130-5166.

Comment Date: 5 p.m. ET 2/11/26.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: January 30, 2026.
Debbie-Anne A. Reese,
Secretary.

[FR Doc. 2026-02428 Filed 2-5-26; 8:45 am]

BILLING CODE 6717-01-P